DEPARTMENT OF THE INTERIOR

Bureau of Land Management

[CA-360-1430-EU;CACA-45567]

Notice of Intent To Amend the 1993 Redding Resource Management Plan, and Notice of Realty Action, Noncompetitive Sale of Public Land in Shasta County, CA

AGENCY: Bureau of Land Management, Interior.

ACTIONS: Notice of Intent and Notice of Realty Action.

SUMMARY: This notice provides for two related proposals, one a proposed plan amendment and the other a proposed direct sale. The proposed plan amendment involves about 260 acres of Federal land. The proposed direct sale involves about 100 acres of the Federal land being considered in the proposed plan amendment.

DATES: The Bureau of Land Management must receive your comments on or before March 8, 2004 at the address listed below.

ADDRESSES: Please send your written comments to the Bureau of Land Management, Redding Field Office, 355 Hemsted Drive, Redding, CA 96002, attention Ilene Emry. All submissions from organizations or businesses will be made available for public inspection in their entirety. Individuals may request confidentiality with respect to their name, address, and phone number. If you wish to have your name or street address withheld from public review, or from disclosure under the Freedom of Information Act, the first line of the comment should start with the words “CONFIDENTIALITY REQUEST” in uppercase letters in order for BLM to comply with your request. Such request will be honored to the extent allowed by law. Comment contents will not be kept confidential.

FOR FURTHER INFORMATION CONTACT: Ilene Emry, Redding Field Office; 530-224-2100.

SUPPLEMENTARY INFORMATION: The Bureau of Land Management (BLM) is proposing to amend the Redding Resource Management Plan (RMP) to consider disposal of up to 260 acres of public land. The affected public lands are located in the Interlakes Special Recreation Management Area north of Redding, California and are described as:

Mount Diablo Meridian

T. 33 N., R. 5 W.,

Section 32: E½ of Lot 15, E½ of Lot 22,

Section 33: S½ of Lot 9, S½ of Lot 10, S½ of Lot 11, Lots 16-21;

Total Plan Amendment Acres: approximately 260.0.

If the BLM determines during consideration of the proposed plan amendment that these lands are suitable for disposal, then BLM proposes to offer about 100 acres of the lands for direct sale under section 203 and 209 of the Federal Land Policy and Management Act of 1976 (90 Stat. 2750, 43 U.S.C. 1713). The proposed sale would be at not less than the estimated fair market value of $69,615 to the Redding Gun Club, a 501(c)(3) nonprofit corporation, consistent with 43 CFR 2711.3-3(a)(1) for development of a regional firing range. The area under consideration for direct sale has the following legal description:

Mount Diablo Meridian

T. 33 N., R. 5 W.,

Section 33: W½ of Lot 17, Lot 18, N½ of Lot 19, SE¼ of Lot 19, Lot 20;

Total Direct Sale Acres: approximately 100 acres.

The BLM may consider disposal of a portion or all of the remaining 160 acres by direct sale to the Redding Gun Club in the future if it is determined to be needed for the regional firing range. An additional environmental analysis and public notification will be completed at that time. In July 2002, the BLM provided an opportunity to comment on an environmental assessment (EA) for a direct sale involving a portion of the area in the proposed plan amendment. The BLM will incorporate applicable issues raised and comments received during the July 2002 comment period in this plan amendment process. Further public comment will also be accepted on the draft plan amendment and environmental assessment developed in connection with this NOI/NORA. Several relevant planning/NEPA documents concerning this action are available on request from the Redding Field Office. Some of the preliminary issues and concerns identified by BLM personnel, other agencies, and individuals, include fair market value, noise, increased traffic, and public safety. Disciplines involved in the planning process will include specialists with expertise in wildlife management, minerals and geology, outdoor recreation, archaeology, lands and realty, and botany. The alternative to the proposed action will be the No Action Alternative.

Since 1986, the Redding BLM Field Office has cooperated with local planning agencies, and groups to provide a location for a regional firing range. The proposed sale parcel is well suited for use as a firing range. Urban encroachment has resulted in the closure of sites traditionally used for shooting in the Redding area. Direct sale would allow for the development of a regional firing range and would serve important public objectives, consistent with 43 CFR 2710.0-3(a)(2).

BLM has determined that the parcel contains no mineral values; therefore, mineral interests may be conveyed simultaneously. The sale would include both the surface and mineral estates. If the RMP amendment proposed in this notice is completed, the conveyance would be in compliance and consistent with the Redding Resource Management Plan, dated July 27, 2003, as amended, and would be in the public interest.

This notice terminates the temporary segregation from exchange of those lands described for the direct sale, effective January 22, 2004. The land described for the direct sale is hereby segregated from appropriation under the public land laws, including the mining laws, pending the direct sale or October 18, 2004, whichever occurs first.

The patent, if issued, would be subject to valid existing rights and contain the following reservations:

1. Excepting and reserving to the United States, a right-of-way for ditches and canals constructed by the authority of the United States, Act of August 30, 1890, 43 U.S.C. 945.

2. A right-of-way reservation (CA 45206), as amended, to the BLM for administrative access across existing roads on the public land in this sale.

Dated: November 17, 2003.
Charles M. Schultz,
Field Manager.

[FR Doc. 04-1359 Filed 1-21-04; 8:45 am]

BILLING CODE 4310-40-P